NATIONAL LABOR RELATIONS BOARD

Sunshine Act Meetings: January 2016

TIME AND DATES: All meetings are held at 2:00 p.m.

Tuesday, January 5;

Wednesday, January 6;

Thursday, January 7;

Tuesday, January 12;

Wednesday, January 13;

Thursday, January 14;

Tuesday, January 19;

Wednesday, January 20;

Thursday, January 21;

Tuesday, January 26;

Wednesday, January 27;

Thursday, January 28;

PLACE: Board Agenda Room, No. 5065, 1015 Half St., SE., Washington, DC 20570

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. 552b(c)(10).

CONTACT PERSON FOR MORE INFORMATION: Gary Shinners, Executive Secretary, (202) 273-3737.

Dated: December 29, 2015.
William B. Cowen,
Solicitor.

[FR Doc. 2015-33089 Filed 12-29-15; 4:15 pm]

BILLING CODE 7545-01-P